CONSUMER PRODUCT SAFETY COMMISSION

Sunshine Act Meetings

Time and Date: Wednesday, December 2, 2009, 9 a.m.—12 noon.

Place: Hearing Room 420, Bethesda Towers, 4330 East West Highway, Bethesda, Maryland.

Status: Commission Briefing/Meeting—Open to the Public.

Matters To Be Considered:

1. Interim Enforcement Policy on Component Testing and Certification (of Lead Paint and Content).

2. Commission Action on Existing Stay of Testing and Certification.

3. Notice of Inquiry for Tracking Labels for Drywall.

A live Webcast of the Meeting can be viewed at http://www.cpsc.gov/webcast/index.html.

For a recorded message containing the latest agenda information, call (301) 504-7948.

FOR FURTHER INFORMATION CONTACT: Todd A. Stevenson, Office of the Secretary, U.S. Consumer Product Safety Commission, 4330 East West Highway, Bethesda, MD 20814, (301) 504-7923.

Dated: November 24, 2009.
Todd A. Stevenson,
Secretary.

[FR Doc. E9-28662 Filed 11-30-09; 8:45 am]

BILLING CODE 6355-01-M